DEPARTMENT OF ENERGY

Federal Energy Regulatory Commission

[Docket No. IC20-21-000]

Commission Information Collection Activities (FERC-583); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-583, Annual Kilowatt Generating Report (Annual Charges).

DATES: Comments on the collection of information are due August 17, 2020.

ADDRESSES: You may submit comments (identified by Docket No. IC20-21-000) by either of the following methods:

• eFiling at Commission's Website: http://www.ferc.gov/docs-filing/efiling.asp.

• Mail/Hand Delivery/Courier: Federal Energy Regulatory Commission, Secretary of the Commission, at Health and Human Services, 12225 Wilkins Avenue, Rockville, Maryland 20852.

Instructions: All submissions must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov and telephone at (202) 502-8663.

SUPPLEMENTARY INFORMATION:

Title: FERC-583, Annual Kilowatt Generating Report (Annual Charges).

OMB Control No.: 1902-0136.

Type of Request: Three-year extension of the FERC-583 information collection requirements, with the addition of two activities that are in use without a control number: (1) Application of a State or municipal licensee or exemptee for total or partial exemption from the assessment of annual charges; and (2) Appeals and requests for rehearing of billing for annual charges.

Abstract: Section 10(e) of the Federal Power Act (FPA) ¹ requires the Federal Energy Commission (FERC or Commission) to collect annual charges from entities that generate electricity, using hydropower, in accordance with Commission authorization. Such charges reimburse the federal government for the cost of administering Part I of the FPA,² the use of tribal lands, the use of federal lands, and the use of federal dams.

¹ 16 U.S.C. 803(e).

² 16 U.S.C. 791 through 823d.

Regulations at 18 CFR 11.1(c)(5) and 11.1(d)(4) require annual kilowatt generating reports from licensees and exemptees. The Commission's Financial Services Division uses the reports to determine the amount of annual charges to be assessed each licensee and exemptee.

Types of Respondent: (1) Hydropower licensees of projects more than 1.5 megawatts of installed capacity; (2) Holders of exemptions under section 30 of the FPA; ³ and (3) exemptees under sections 405 and 408 of the Public Utility Regulatory Policy Act.⁴

³ 16 U.S.C. 823a.

⁴ 16 U.S.C. 2705.

Estimate of Annual Burden: ⁵ The following table shows the estimated annual burdens:

⁵ “Burden” is the total time, effort, or financial resources expended by persons to generate, maintain, retain, or disclose or provide information to or for a Federal agency. For further explanation of what is included in the information collection burden, refer to 5 CFR 1320.3.

FERC-583—Estimated Annual Burdens
Type of response | Number of respondents | Annual number of responses per respondent | Total number of responses (Col. B × Col. C) | Average hours & cost ⁶ per response | Total annual burden hours & total annual cost (Col. D × Col. E) | Cost per respondent (Col. F ÷ Col. B)
A | B | C | D | E | F | G
Annual kilowatt generating report 18 CFR 11.1(c)(5) and 11.1(d)(4) | 520 | 1 | 520 | 2 hrs.; $166 | 1,040 hrs.; $86,320 | $166
Application of a State or municipal licensee or exemptee for total or partial exemption from the assessment of annual charges 18 CFR 11.6 | 48 | 1 | 48 | 2 hrs.; $166 | 96 hrs.; $7,968 | 166
Appeals and requests for rehearing of billing for annual charges 18 CFR 11.20 | 3 | 1 | 3 | 40 hrs.; $3,320 | 120 hrs.; $9,960 | 3,320
Totals | 571 |  | 571 |  | 1,256 hrs.; $104,248

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁶ The Commission staff thinks that the average respondent for this collection is similarly situated to the Commission, in terms of salary plus benefits. Based upon FERC's 2020 annual average full-time equivalent of $172,329 per year (for salary plus benefits), the average hourly cost is $83.00 per hour.

Dated: June 10, 2020.
Kimberly D. Bose,
Secretary.

[FR Doc. 2020-12939 Filed 6-15-20; 8:45 am]

BILLING CODE 6717-01-P